DEPARTMENT OF COMMERCE

[I.D. 110404G]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Saltonstall-Kennedy Grant Program (S-K Program) Applications and Reports.

Form Number(s): NOAA Forms 88-204, 88-205.

OMB Approval Number: 0648-0135.

Type of Request: Regular submission.

Burden Hours: 985.

Number of Respondents: 210.

Average Hours Per Response: One hour for a project summary form; one hour for a budget form; 2.5 hours for a semi-annual report; and 13 hours for a final report.

Needs and Uses: The S-K Program provides financial assistance on a competitive basis for research and development projects that benefit U.S. fishing communities. The respondents must submit applications, and grant recipients must submit semi-annual progress reports and final reports.

Affected Public: Individuals or households; business or other for-profit organizations; not-for-profit institutions; State, Local or Tribal Government.

Frequency: On occasion, semi-annually, annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 3, 2004.
Gwellnar Banks,
Management Analyst, Office of the Chief Information Officer.

[FR Doc. 04-25091 Filed 11-9-04; 8:45 am]

BILLING CODE 3510-22-S